DEPARTMENT OF DEFENSE

Department of the Army; Corps of Engineers

Availability of a Draft Evaluation Report and Draft Environmental Impact Statement, Tuttle Creek Dam Safety Assurance Program, Big Blue River, near the City of Manhattan, Riley and Pottawatomie Counties, KS

AGENCY: Department of the Army, U.S. Army Corps of Engineers, DoD.

ACTION: Notice.

SUMMARY: In accordance with the requirements of the National Environmental Policy Act (NEPA), the U.S. Army Corps of Engineers (USACE or Corps) Kansas City District, in cooperation with U.S. Environmental Protection Agency, has prepared a Draft Evaluation Report and Draft Environmental Impact Statement (DEvR/DEIS). This study identifies deficiencies in the foundation of the existing dam that could lead to failure in the event of a major earthquake. In addition, minor deficiencies were identified in the existing tainter gate system and with the existing amount of freeboard that could adversely affect performance of the dam during a major flood event. Failure of the structure in the event of a major earthquake or flood would have significant adverse impacts on the human environment, including property damage and potential loss of human life. Considering these potential significant impacts on the human environment, and in accordance with the NEPA, the Corps initiated preparation of an Evaluation Report and Environmental Impact Statement (EvR/EIS). This DevR/DEIS presents a screening level analysis of several alternatives considered during scoping and a detailed analysis of four alternatives that would minimize the potential for loss of human life and property damage related to failure of the dam in the event of a major earthquake. These included: Restricted Lake Operation; Stabilize Foundation Soil with Drawdown; Stabilize Foundation Soil without Drawdown; and Enlarge Embankment. The DEIS identifies Stabilize Foundation Soil without Drawdown as the Corps' Preferred Alternative. In addition, the Corps considered the “No Action” Alternative. The Corps also identified potential measures to ensure satisfactory performance of the dam during a major flood. These measures include minor repair work on the existing tainter gate system and construction of a “Jersey barrier” wall across the top of the dam to increase freeboard and prevent wind and wave wash. The DEvR/EIS presents a detailed study of the environmental impacts of the five alternatives listed above, the minor measures needed to ensure satisfactory performance of the dam during a major flood, and an interim measure proposed to enhance public safety.

DATES: Submit comments by June 10, 2002.

ADDRESSES: Send written comments and suggestions concerning this proposal to William B. Empson, P.E., Project Manager, Tuttle Creek Dam Safety Assurance Program, U.S. Army Corps of Engineers, Kansas City District, Attn: Dam Safety and Support Section (EC-GD), 700 Federal Building, 601 E. 12th St., Kansas City, MO 64106 or via E-mail: tcdam.nwk@usace.army.mil or the Tuttle Creek Dam Safety Assurance Program Web site: http://www.nwk.usace.army.mil/tcdam. Requests to be placed on the mailing list should also be sent to this address.

FOR FURTHER INFORMATION CONTACT: William B. Empson, P.E., Project Manager, Tuttle Creek Dam Safety Assurance Study, USACE, Kansas City District, at the above address, telephone (816) 983-3556 or via e-mail: tcdam.nwk@usace.army.mil.

SUPPLEMENTARY INFORMATION: The proposed project must also address environmental impacts relative to the Clean Air Act, Clean Water Act, Endangered Species Act and the Fish and Wildlife Coordination Act (FWCA). In accordance with the NEPA, the DEvR/DEIS evaluates reasonable alternatives for the USACE's decision making process. As required by NEPA, the USACE also analyzes the “no action” alternative as a baseline for gauging potential impacts. As part of the public involvement process, notice is hereby given by the USACE-Kansas City District of a public meeting to be held at the Holiday Inn, 530 Richards Drive, Manhattan, KS, beginning at 7 p.m. on May 2, 2002. The public meeting will allow participants the opportunity to comment on the DEvR/DEIS prepared for the Tuttle Creek Dam Safety Assurance Study. Written comments should be submitted to the address above. Copies of the document may also be obtained from the same address.

Copies of the DEvR/DEIS are also available for inspection at the locations identified below:

(1) Manhattan Public Library, 629 Poyntz Ave., Manhattan, KS 66506.

(2) Hale Library, Kansas State University, Manhattan, KS 66506.

(3) Wamego Public Library, 408 Elm St., Wamego, KS66547.

(4) Topeka & Shawnee County Public Library, 1515 SW 10th Ave., Topeka, KS 66604.

(5) Lawrence Public Library, 707 Vermont, Lawrence, KS 66044.

(6) Kansas State Library, 300 SW 10th Ave./Room 343-N, Topeka, KS 66612.

(7) Marysville Public Library, 1009 Broadway, Marysville, KS 66508.

(8)The Tuttle Creek Dam Safety Assurance Program website at http://www.nwk.usace.army.mil/tcdam.

(9) Rm. 747—Library, U.S. Army Corps. of Engineers, Kansas City District, 601 E. 12st St., Kansas City, MO 64106.

(10) Corps Lake Project Offices in the study area including Tuttle Creek Lake Project Office, 5020 Tuttle Creek Blvd., Manhattan, KS 66502.

After the public comment period ends, USACE will consider all comments received, revise the DEvR/DEIS as appropriate, and issue a Final Evaluation Report and Final Environmental Impact Statement.

Luz D. Ortiz,
Army Federal Register Liaison Officer.

[FR Doc. 02-9645 Filed 4-18-02; 8:45 am]

BILLING CODE 3710-KN-M